DEPARTMENT OF TRANSPORTATION

Federal Aviation Administration

14 CFR Part 97

[Docket No. 31383; Amdt. No. 3968]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective August 5, 2021. The compliance date for each SIAP, associated Takeoff Minimums, and ODP is specified in the amendatory provisions.

The incorporation by reference of certain publications listed in the regulations is approved by the Director of the Federal Register as of August 5, 2021.

ADDRESSES: Availability of matter incorporated by reference in the amendment is as follows:

For Examination

1. U.S. Department of Transportation, Docket Ops-M30, 1200 New Jersey Avenue SE, West Bldg., Ground Floor, Washington, DC, 20590-0001;

2. The FAA Air Traffic Organization Service Area in which the affected airport is located;

3. The office of Aeronautical Information Services, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends 14 CFR part 97 by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on July 23, 2021.
Wade E.K. Terrell,
Aviation Safety, Flight Standards Service, Manager (A), Flight Technologies and Procedures Division.

Adoption of the Amendment

Accordingly, pursuant to the authority delegated to me, Title 14, CFR part 97, (is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
9-Sep-21 | KS | Pratt | Pratt Rgnl | 1/0508 | 6/10/21 | RNAV (GPS) RWY 35, Amdt 1.
9-Sep-21 | KS | Pratt | Pratt Rgnl | 1/0509 | 6/10/21 | RNAV (GPS) RWY 17, Amdt 1.
9-Sep-21 | IN | Valparaiso | Porter County Rgnl | 1/0697 | 5/20/21 | RNAV (GPS) RWY 27, Orig-A.
9-Sep-21 | IN | Valparaiso | Porter County Rgnl | 1/0698 | 5/20/21 | ILS RWY 27, Amdt 3A.
9-Sep-21 | IN | Valparaiso | Porter County Rgnl | 1/0699 | 5/20/21 | RNAV (GPS) RWY 9, Amdt 1A.
9-Sep-21 | MI | Gladwin | Gladwin Zettel Meml | 1/0713 | 5/19/21 | RNAV (GPS) RWY 9, Orig-B.
9-Sep-21 | MI | Gladwin | Gladwin Zettel Meml | 1/0714 | 5/19/21 | RNAV (GPS) RWY 27, Orig-B.
9-Sep-21 | MN | Redwood Falls | Redwood Falls Muni | 1/0782 | 5/21/21 | VOR-A, Amdt 5.
9-Sep-21 | MN | Redwood Falls | Redwood Falls Muni | 1/0785 | 5/21/21 | RNAV (GPS) RWY 30, Orig.
9-Sep-21 | MN | Eveleth | Eveleth-Virginia Muni | 1/1058 | 5/21/21 | VOR-A, Amdt 2A.
9-Sep-21 | MN | Eveleth | Eveleth-Virginia Muni | 1/1067 | 5/21/21 | RNAV (GPS) RWY 27, Orig-B.
9-Sep-21 | NE | Alliance | Alliance Muni | 1/1215 | 7/13/21 | RNAV (GPS) RWY 8, Orig-A.
9-Sep-21 | NE | Alliance | Alliance Muni | 1/1221 | 7/13/21 | RNAV (GPS) RWY 12, Orig-A.
9-Sep-21 | NE | Alliance | Alliance Muni | 1/1227 | 7/13/21 | RNAV (GPS) RWY 26, Orig-A.
9-Sep-21 | NE | Alliance | Alliance Muni | 1/1245 | 7/13/21 | RNAV (GPS) RWY 30, Amdt 1A.
9-Sep-21 | NE | Alliance | Alliance Muni | 1/1248 | 7/13/21 | VOR RWY 12, Amdt 3C.
9-Sep-21 | NE | Alliance | Alliance Muni | 1/1259 | 7/13/21 | VOR RWY 30, Amdt 3A.
9-Sep-21 | AR | Morrilton | Morrilton Muni | 1/1276 | 7/19/21 | RNAV (GPS) RWY 27, Orig.
9-Sep-21 | OK | Oklahoma City | Sundance | 1/1518 | 7/14/21 | RNAV (GPS) RWY 18, Amdt 1D.
9-Sep-21 | OK | Oklahoma City | Sundance | 1/1520 | 7/14/21 | RNAV (GPS) RWY 36, Amdt 1C.
9-Sep-21 | PA | St Marys | St Marys Muni | 1/1549 | 7/14/21 | RNAV (GPS) RWY 28, Amdt 1D.
9-Sep-21 | PA | St Marys | St Marys Muni | 1/1556 | 7/14/21 | LOC RWY 28, Amdt 4D.
9-Sep-21 | PA | St Marys | St Marys Muni | 1/1557 | 7/14/21 | RNAV (GPS) RWY 10, Amdt 1B.
9-Sep-21 | NE | Alliance | Alliance Muni | 1/1655 | 7/13/21 | ILS OR LOC RWY 30, Orig-A.
9-Sep-21 | SC | Manning | Santee Cooper Rgnl | 1/1697 | 6/9/21 | VOR/DME OR GPS-A, Amdt 4A.
9-Sep-21 | IL | Quincy | Quincy Rgnl-Baldwin Fld | 1/1698 | 5/21/21 | LOC/DME BC RWY 22, Amdt 6A.
9-Sep-21 | GA | Jesup | Jesup-Wayne County | 1/1808 | 7/16/21 | RNAV (GPS) RWY 11, Orig-A.
9-Sep-21 | GA | Jesup | Jesup-Wayne County | 1/1832 | 7/16/21 | RNAV (GPS) RWY 29, Orig-A.
9-Sep-21 | TX | Terrell | Terrell Muni | 1/1896 | 7/8/21 | RNAV (GPS) RWY 17, Orig-A.
9-Sep-21 | TX | Terrell | Terrell Muni | 1/1907 | 7/8/21 | RNAV (GPS) RWY 35, Orig-A.
9-Sep-21 | MI | Pellston | Pellston Rgnl/Emmet County | 1/2012 | 7/19/21 | VOR RWY 23, Amdt 16B.
9-Sep-21 | OK | Oklahoma City | Sundance | 1/2309 | 7/14/21 | VOR RWY 18, Amdt 1F.
9-Sep-21 | SC | Pickens | Pickens County | 1/2780 | 4/23/21 | RNAV (GPS) RWY 23, Orig-A.
9-Sep-21 | SC | Pickens | Pickens County | 1/2782 | 4/23/21 | RNAV (GPS) RWY 5, Orig.
9-Sep-21 | CA | Lancaster | General Wm J Fox Airfield | 1/3309 | 7/6/21 | RNAV (GPS) RWY 24, Orig.
9-Sep-21 | CA | Lancaster | General Wm J Fox Airfield | 1/3310 | 7/6/21 | RNAV (GPS) RWY 6, Orig.
9-Sep-21 | AL | Wetumpka | Wetumpka Muni | 1/3499 | 6/8/21 | RNAV (GPS) RWY 27, Orig-A.
9-Sep-21 | GA | Jekyll Island | Jekyll Island | 1/3503 | 6/9/21 | VOR-A, Amdt 10A.
9-Sep-21 | GA | Jekyll Island | Jekyll Island | 1/3505 | 6/9/21 | RNAV (GPS) RWY 36, Amdt 1A.
9-Sep-21 | ME | Millinocket | Millinocket Muni | 1/4047 | 4/23/21 | RNAV (GPS) RWY 29, Amdt 1B.
9-Sep-21 | ME | Millinocket | Millinocket Muni | 1/4048 | 4/23/21 | VOR RWY 29, Orig-B.
9-Sep-21 | AL | St Elmo | St Elmo | 1/4435 | 5/25/21 | RNAV (GPS) RWY 6, Orig.
9-Sep-21 | IN | Lafayette | Purdue University | 1/4592 | 6/17/21 | VOR-A, Amdt 26A.
9-Sep-21 | IN | Lafayette | Purdue University | 1/4593 | 6/17/21 | RNAV (GPS) RWY 28, Amdt 1A.
9-Sep-21 | IN | Lafayette | Purdue University | 1/4594 | 6/17/21 | ILS OR LOC RWY 10, Amdt 11B.
9-Sep-21 | IN | Lafayette | Purdue University | 1/4595 | 6/17/21 | RNAV (GPS) RWY 10, Amdt 1A.
9-Sep-21 | MI | Mount Pleasant | Mount Pleasant Muni | 1/4617 | 4/26/21 | RNAV (GPS) RWY 9, Orig-A.
9-Sep-21 | MI | Mount Pleasant | Mount Pleasant Muni | 1/4618 | 4/26/21 | RNAV (GPS) RWY 27, Orig-B.
9-Sep-21 | MI | Mount Pleasant | Mount Pleasant Muni | 1/4620 | 4/26/21 | VOR RWY 27, Amdt 1A.
9-Sep-21 | FL | Pensacola | Pensacola Intl | 1/4626 | 4/23/21 | LOC RWY 26, Amdt 1B.
9-Sep-21 | FL | Pensacola | Pensacola Intl | 1/4628 | 4/23/21 | ILS OR LOC RWY 17, Amdt 14C.
9-Sep-21 | FL | Pensacola | Pensacola Intl | 1/4637 | 4/23/21 | RNAV (GPS) RWY 17, Amdt 2E.
9-Sep-21 | FL | Pensacola | Pensacola Intl | 1/4643 | 4/23/21 | VOR RWY 8, Amdt 4B.
9-Sep-21 | FL | Pensacola | Pensacola Intl | 1/4645 | 4/23/21 | RNAV (GPS) RWY 35, Amdt 2D.
9-Sep-21 | FL | Pensacola | Pensacola Intl | 1/4647 | 4/23/21 | RNAV (GPS) RWY 26, Amdt 2D.
9-Sep-21 | FL | Pensacola | Pensacola Intl | 1/4648 | 4/23/21 | RNAV (GPS) RWY 8, Amdt 2E.
9-Sep-21 | NJ | Mount Holly | South Jersey Rgnl | 1/4649 | 4/23/21 | RNAV (GPS) RWY 26, Amdt 1C.
9-Sep-21 | FL | Williston | Williston Muni | 1/4650 | 4/23/21 | RNAV (GPS) RWY 23, Orig-C.
9-Sep-21 | FL | Williston | Williston Muni | 1/4654 | 4/23/21 | RNAV (GPS) RWY 5, Orig-C.
9-Sep-21 | MI | Pellston | Pellston Rgnl/Emmet County | 1/4688 | 7/19/21 | RNAV (GPS) RWY 5, Orig-C.
9-Sep-21 | FL | Lake Wales | Lake Wales Muni | 1/4808 | 4/23/21 | VOR/DME-B, Amdt 3.
9-Sep-21 | FL | Lake Wales | Lake Wales Muni | 1/4809 | 4/23/21 | RNAV (GPS) RWY 24, Orig-A.
9-Sep-21 | FL | Lake Wales | Lake Wales Muni | 1/4810 | 4/23/21 | RNAV (GPS) RWY 6, Orig-C.
9-Sep-21 | PA | Connellsville | Joseph A. Hardy Connellsville | 1/4818 | 4/26/21 | RNAV (GPS) RWY 5, Orig-A.
9-Sep-21 | PA | Connellsville | Joseph A. Hardy Connellsville | 1/4819 | 4/26/21 | LOC RWY 5, Amdt 4A.
9-Sep-21 | WI | Menomonie | Menomonie Muni-Score Field | 1/5361 | 7/8/21 | VOR/DME RWY 27, Amdt 1A.
9-Sep-21 | AR | Pine Bluff | Pinebluff Rgnl/Grider Fld | 1/5449 | 4/29/21 | ILS OR LOC RWY 18, Amdt 3C.
9-Sep-21 | AR | Pine Bluff | Pinebluff Rgnl/Grider Fld | 1/5452 | 4/29/21 | RNAV (GPS) RWY 36, Amdt 1C.
9-Sep-21 | AR | Pine Bluff | Pinebluff Rgnl/Grider Fld | 1/5453 | 4/29/21 | RNAV (GPS) RWY 18, Amdt 1C.
9-Sep-21 | TX | Pampa | Perry Lefors Fld | 1/5460 | 4/29/21 | VOR/DME-A, Amdt 3.
9-Sep-21 | TX | Pampa | Perry Lefors Fld | 1/5461 | 4/29/21 | RNAV (GPS) RWY 17, Orig-A.
9-Sep-21 | TX | Snyder | Winston Fld | 1/5465 | 4/29/21 | NDB RWY 35, Amdt 2B.
9-Sep-21 | TX | Snyder | Winston Fld | 1/5472 | 4/29/21 | RNAV (GPS) RWY 35, Amdt 1A.
9-Sep-21 | NC | Rockingham | Richmond County | 1/5478 | 4/28/21 | RNAV (GPS) RWY 32, Orig-C.
9-Sep-21 | CA | Montague | Siskiyou County | 1/5480 | 4/28/21 | NDB OR GPS-A, Amdt 7A.
9-Sep-21 | CA | Fortuna | Rohnerville | 1/5555 | 4/28/21 | GPS RWY 11, Orig-A.
9-Sep-21 | CA | Fortuna | Rohnerville | 1/5556 | 4/28/21 | GPS RWY 29, Orig-A.
9-Sep-21 | AR | Searcy | Searcy Muni | 1/5739 | 5/19/21 | RNAV (GPS) RWY 19, Amdt 1.
9-Sep-21 | AR | Searcy | Searcy Muni | 1/5740 | 5/19/21 | ILS OR LOC RWY 1, Orig.
9-Sep-21 | MN | Red Wing | Red Wing Rgnl | 1/5804 | 7/19/21 | ILS OR LOC RWY 9, Amdt 1A.
9-Sep-21 | MN | Red Wing | Red Wing Rgnl | 1/5808 | 7/19/21 | RNAV (GPS) RWY 27, Amdt 2C.
9-Sep-21 | MN | Red Wing | Red Wing Rgnl | 1/5813 | 7/19/21 | RNAV (GPS) RWY 9, Amdt 1A.
9-Sep-21 | PA | New Castle | New Castle Muni | 1/6036 | 6/9/21 | RNAV (GPS) RWY 5, Amdt 1C.
9-Sep-21 | PA | New Castle | New Castle Muni | 1/6054 | 6/9/21 | RNAV (GPS) RWY 23, Amdt 1C.
9-Sep-21 | MI | Grayling | Grayling Aaf | 1/6099 | 7/14/21 | NDB RWY 14, Amdt 8C.
9-Sep-21 | MI | Grayling | Grayling Aaf | 1/6100 | 7/14/21 | RNAV (GPS) RWY 14, Orig-C.
9-Sep-21 | MI | Grayling | Grayling Aaf | 1/6103 | 7/14/21 | VOR RWY 14, Amdt 2C.
9-Sep-21 | FL | Winter Haven | Winter Haven Rgnl | 1/6111 | 7/14/21 | RNAV (GPS) RWY 11, Orig-A.
9-Sep-21 | FL | Winter Haven | Winter Haven Rgnl | 1/6113 | 7/14/21 | RNAV (GPS) RWY 5, Amdt 1C.
9-Sep-21 | FL | Winter Haven | Winter Haven Rgnl | 1/6116 | 7/14/21 | VOR-A, Amdt 7A.
9-Sep-21 | MO | Stockton | Stockton Muni | 1/6138 | 4/29/21 | RNAV (GPS) RWY 1, Orig-B.
9-Sep-21 | MO | Stockton | Stockton Muni | 1/6139 | 4/29/21 | RNAV (GPS) RWY 19, Orig-C.
9-Sep-21 | MO | Stockton | Stockton Muni | 1/6140 | 4/29/21 | VOR/DME-A, Amdt 3A.
9-Sep-21 | MI | Pellston | Pellston Rgnl/Emmet County | 1/6426 | 7/19/21 | RNAV (GPS) RWY 32, Orig-C.
9-Sep-21 | MI | Pellston | Pellston Rgnl/Emmet County | 1/6430 | 7/19/21 | RNAV (GPS) RWY 23, Orig-C.
9-Sep-21 | MI | Pellston | Pellston Rgnl/Emmet County | 1/6432 | 7/19/21 | ILS OR LOC RWY 32, Amdt 11C.
9-Sep-21 | MO | Moberly | Omar N. Bradley | 1/6716 | 4/28/21 | RNAV (GPS) RWY 31, Orig-B.
9-Sep-21 | MO | Moberly | Omar N. Bradley | 1/6717 | 4/28/21 | RNAV (GPS) RWY 13, Orig-A.
9-Sep-21 | IA | Cresco | Ellen Church Fld | 1/6778 | 5/21/21 | GPS RWY 33, Orig-B.
9-Sep-21 | MN | Rushford | Rushford Muni-Robert W. Bunke Fld | 1/7084 | 4/29/21 | RNAV (GPS) RWY 34, Orig-B.
9-Sep-21 | MN | Rushford | Rushford Muni-Robert W. Bunke Fld | 1/7085 | 4/29/21 | VOR-A, Amdt 2A.
9-Sep-21 | AR | Searcy | Searcy Muni | 1/7209 | 5/19/21 | RNAV (GPS) RWY 1, Amdt 1A.
9-Sep-21 | OH | Salem | Salem Airpark Inc | 1/7213 | 7/19/21 | VOR OR GPS-A, Amdt 1.
9-Sep-21 | OK | Ponca City | Ponca City Rgnl | 1/7622 | 7/13/21 | VOR-A, Amdt 10B.
9-Sep-21 | OK | Ponca City | Ponca City Rgnl | 1/7625 | 7/13/21 | RNAV (GPS) RWY 35, Amdt 1.
9-Sep-21 | OK | Ponca City | Ponca City Rgnl | 1/7627 | 7/13/21 | RNAV (GPS) RWY 17, Amdt 1.
9-Sep-21 | OK | Ponca City | Ponca City Rgnl | 1/7628 | 7/13/21 | ILS OR LOC/DME RWY 17, Amdt 3.
9-Sep-21 | KS | Neodesha | Neodesha Muni | 1/7684 | 5/21/21 | VOR OR GPS RWY 2, Amdt 2A.
9-Sep-21 | CA | Placerville | Placerville | 1/7692 | 5/27/21 | RNAV (GPS) RWY 5, Amdt 2A.
9-Sep-21 | OH | Columbus | Ohio State University | 1/7777 | 5/20/21 | ILS OR LOC RWY 9R, Amdt 5B.
9-Sep-21 | OH | Columbus | Ohio State University | 1/7779 | 5/20/21 | NDB RWY 9R, Amdt 3B.
9-Sep-21 | OH | Columbus | Ohio State University | 1/7780 | 5/20/21 | RNAV (GPS) RWY 9R, Amdt 1B.
9-Sep-21 | OH | Columbus | Ohio State University | 1/7781 | 5/20/21 | RNAV (GPS) RWY 27L, Orig-B.
9-Sep-21 | IL | Moline | Quad City Intl | 1/7868 | 6/28/21 | RNAV (GPS) RWY 31, Amdt 1C.
9-Sep-21 | IL | Moline | Quad City Intl | 1/7869 | 6/28/21 | RNAV (GPS) RWY 27, Amdt 1D.
9-Sep-21 | IL | Moline | Quad City Intl | 1/7870 | 6/28/21 | RNAV (GPS) RWY 13, Amdt 1C.
9-Sep-21 | IL | Moline | Quad City Intl | 1/7871 | 6/28/21 | RNAV (GPS) RWY 9, Amdt 1D.
9-Sep-21 | IL | Moline | Quad City Intl | 1/7872 | 6/28/21 | ILS OR LOC RWY 27, Amdt 2B.
9-Sep-21 | IL | Moline | Quad City Intl | 1/7873 | 6/28/21 | ILS OR LOC RWY 9, Amdt 31D.
9-Sep-21 | TX | Nacogdoches | Nacogdoches A L Mangham Jr Rgnl | 1/8266 | 7/19/21 | ILS OR LOC RWY 36, Amdt 3E.
9-Sep-21 | TX | Nacogdoches | Nacogdoches A L Mangham Jr Rgnl | 1/8268 | 7/19/21 | RNAV (GPS) RWY 18, Orig-A.
9-Sep-21 | TX | Nacogdoches | Nacogdoches A L Mangham Jr Rgnl | 1/8271 | 7/19/21 | RNAV (GPS) RWY 36, Orig-B.
9-Sep-21 | WI | Waukesha | Waukesha County | 1/8321 | 5/21/21 | RNAV (GPS) RWY 28, Orig.
9-Sep-21 | WI | Waukesha | Waukesha County | 1/8322 | 5/21/21 | RNAV (GPS) RWY 10, Orig-A.
9-Sep-21 | WI | Waukesha | Waukesha County | 1/8323 | 5/21/21 | VOR-A, Amdt 16.
9-Sep-21 | WI | Waukesha | Waukesha County | 1/8324 | 5/21/21 | ILS OR LOC RWY 10, Amdt 2B.
9-Sep-21 | TX | Beaumont/Port Arthur | Jack Brooks Rgnl | 1/8436 | 5/26/21 | RNAV (GPS) RWY 12, Orig-B.
9-Sep-21 | TX | Beaumont/Port Arthur | Jack Brooks Rgnl | 1/8439 | 5/26/21 | VOR RWY 12, Amdt 9D.
9-Sep-21 | TX | Beaumont/Port Arthur | Jack Brooks Rgnl | 1/8449 | 5/26/21 | VOR/DME RWY 34, Amdt 7E.
9-Sep-21 | NC | Albemarle | Stanly County | 1/9212 | 6/11/21 | RNAV (GPS) RWY 22L, Orig.
9-Sep-21 | NC | Albemarle | Stanly County | 1/9224 | 6/11/21 | NDB RWY 22L, Amdt 1.
9-Sep-21 | MS | Ripley | Ripley | 1/9337 | 7/14/21 | VOR/DME-A, Amdt 2A.
9-Sep-21 | NC | Albemarle | Stanly County | 1/9379 | 6/11/21 | RNAV (GPS) RWY 4R, Orig.
9-Sep-21 | NC | Albemarle | Stanly County | 1/9381 | 6/11/21 | ILS OR LOC RWY 22L, Amdt 1B.
9-Sep-21 | NJ | Atlantic City | Atlantic City Intl | 1/9569 | 7/16/21 | ILS OR LOC/DME RWY 31, Orig-C.
9-Sep-21 | NJ | Atlantic City | Atlantic City Intl | 1/9570 | 7/16/21 | ILS OR LOC RWY 13, Amdt 8B.
9-Sep-21 | NJ | Atlantic City | Atlantic City Intl | 1/9571 | 7/16/21 | RNAV (GPS) RWY 4, Amdt 2B.
9-Sep-21 | NJ | Atlantic City | Atlantic City Intl | 1/9572 | 7/16/21 | RNAV (GPS) RWY 22, Amdt 4B.
9-Sep-21 | NJ | Atlantic City | Atlantic City Intl | 1/9573 | 7/16/21 | RNAV (GPS) Y RWY 13, Amdt 4A.
9-Sep-21 | NJ | Atlantic City | Atlantic City Intl | 1/9580 | 7/16/21 | RNAV (GPS) Y RWY 31, Amdt 3.
9-Sep-21 | NJ | Atlantic City | Atlantic City Intl | 1/9583 | 7/16/21 | VOR RWY 4, Amdt 15C.
9-Sep-21 | NJ | Atlantic City | Atlantic City Intl | 1/9587 | 7/16/21 | VOR/DME RWY 22, Amdt 6C.
9-Sep-21 | NJ | Atlantic City | Atlantic City Intl | 1/9588 | 7/16/21 | VOR RWY 13, Amdt 4B.
9-Sep-21 | NJ | Atlantic City | Atlantic City Intl | 1/9593 | 7/16/21 | VOR RWY 31, Amdt 1B.
9-Sep-21 | MS | New Albany | New Albany-Union County | 1/9708 | 7/19/21 | RNAV (GPS) RWY 18, Orig.
9-Sep-21 | FL | Bartow | Bartow Exec | 1/9881 | 6/9/21 | VOR RWY 9L, Amdt 2E.
9-Sep-21 | LA | Eunice | Eunice | 1/9883 | 6/10/21 | RNAV (GPS) RWY 16, Orig-A.
9-Sep-21 | KY | Flemingsburg | Fleming-Mason | 1/9886 | 6/8/21 | RNAV (GPS) RWY 25, Orig-A.
9-Sep-21 | TN | Columbia/Mount Pleasant | Maury County | 1/9891 | 6/9/21 | RNAV (GPS) RWY 6, Orig.
9-Sep-21 | TN | Columbia/Mount Pleasant | Maury County | 1/9892 | 6/9/21 | RNAV (GPS) RWY 24, Orig-A.
9-Sep-21 | OH | Columbus | Rickenbacker Intl | 1/9901 | 5/20/21 | RNAV (GPS) RWY 23L, Orig-A.
9-Sep-21 | OH | Columbus | Rickenbacker Intl | 1/9902 | 5/20/21 | ILS OR LOC RWY 5R, Amdt 3D.
9-Sep-21 | OH | Columbus | Rickenbacker Intl | 1/9906 | 5/20/21 | RNAV (GPS) RWY 23R, Orig-C.
9-Sep-21 | OH | Columbus | Rickenbacker Intl | 1/9914 | 5/20/21 | RNAV (GPS) RWY 5R, Amdt 1C.
9-Sep-21 | OH | Columbus | Rickenbacker Intl | 1/9915 | 5/20/21 | RNAV (GPS) RWY 5L, Orig-B.
9-Sep-21 | OH | Columbus | Rickenbacker Intl | 1/9925 | 5/20/21 | ILS OR LOC RWY 23L, Amdt 1A.
9-Sep-21 | OH | Columbus | Rickenbacker Intl | 1/9932 | 5/20/21 | ILS OR LOC RWY 5L, Amdt 1B.
9-Sep-21 | KS | Eureka | Lt. William M. Milliken | 1/9933 | 5/21/21 | VOR/DME RWY 18, Amdt 2C.
9-Sep-21 | KS | Eureka | Lt. William M. Milliken | 1/9939 | 5/21/21 | RNAV (GPS) RWY 18, Orig-B.
9-Sep-21 | SC | Andrews | Robert F. Swinnie | 1/9962 | 6/9/21 | NDB RWY 36, Orig-B.
9-Sep-21 | CT | Hartford | Hartford-Brainard | 1/9966 | 6/9/21 | VOR-A, Amdt 10A.
9-Sep-21 | CT | Hartford | Hartford-Brainard | 1/9969 | 6/9/21 | RNAV (GPS) RWY 2, Orig-C.
9-Sep-21 | CT | Hartford | Hartford-Brainard | 1/9970 | 6/9/21 | LDA RWY 2, Amdt 2B.

[FR Doc. 2021-16585 Filed 8-4-21; 8:45 am]

BILLING CODE 4910-13-P